DEPARTMENT OF STATE

[Public Notice 5400]

Bureau of Educational and Cultural Affairs (ECA) Request for Grant Proposals: FY 2006 U.S.-Russia Language, Technology, Math, and Sciences (LTMS) Teacher Program

Announcement Type: New Cooperative Agreement.

Funding Opportunity Number: ECA/A/S/X-06-13.

Catalog of Federal Domestic Assistance Number: 00.000.

Key Dates: Application Deadline, June 5, 2006.

Executive Summary: The Teacher Exchange Branch in the Office of Global Educational Programs of the Bureau of Educational and Cultural Affairs (ECA), U.S. Department of State, announces an open competition for an assistance award in the amount of $700,000 to support the FY 2006 U.S.—Russia Language, Technology, Math, and Sciences (LTMS) Teacher Program. This program provides a three- to four-week professional development program in the U.S. for secondary-level teachers from Russia, followed by a program in Russia for U.S. teachers and the Russian educators, and a series of workshops in Russia led by the Russian teachers for their colleagues. U.S. organizations meeting the provisions described in Internal Revenue Code section 26 501(c)(3) are eligible to apply.

In a proposal, applicants should address their capacity to recruit teachers of English as a Foreign Language (EFL), history, social studies, math, science, and information technology in Russia.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations * * * and thus to assist in the development of friendly, sympathetic and peaceful relations between the United States and the other countries of the world.” The funding authority for the program above is provided through legislation.

Purpose

Overview: The U.S.-Russia Language, Technology, Math, and Sciences (LTMS) Teacher Program will bring outstanding secondary school teachers from Russia to the United States to augment their subject area teaching skills and knowledge of the U.S., as well as provide opportunities for U.S. teachers to participate in a professional development program in Russia. The goals of the program are: (1) To provide opportunities for Russian and U.S. teachers to learn from one another's education systems and foster excellence in the classroom through increased exchange of ideas and expertise; (2) to develop the leadership skills of Russian and U.S. teachers by providing opportunities to share educational best practices in professional development through seminars and workshops in the United States and Russia; (3) to raise the status of teaching in Russia and create among key Russian professionals a deeper understanding of the U.S., so that they may share their experiences of living in a diverse democratic society with students and teachers in their home communities.

Proposals should outline six distinct program components:

A. Program publicity, recruitment, and selection in Russia.

B. Program publicity, recruitment, and selection of U.S. teachers.

C. Two three- to four-week U.S.-based institutes (each comprising a group of 16 teachers from Russia): The first institute should support teachers of English as a Foreign Language (EFL), social studies, and history and should be given in English in spring of 2007; the second institute should support teachers of math, science, and information technology and should be given in Russian in fall of 2007. Russian participants should be teaching professionals with at least five to ten years of experience. Teachers participating in the English-speaking institute should have strong written and oral English skills, as evidenced by an institutional TOEFL score of 195 CBT or higher. The second institute, for teachers from the disciplines of math, science, and information technology, will be conducted in Russian with facilitators and translators;

D. Visit of a group of eight U.S. teachers to the home schools of the Russian teachers who participated in the U.S. program to share best practices during the 2007-08 academic year;

E. Professional development workshops in Russia led by teachers who participated in the U.S. program for their non-English-speaking colleagues; and

F. Follow-On Activities.

Applicants should propose a calendar that will include a coherent sequence of the various program phases.

A. Recruitment/Selection of Russian Teachers

Applicants should propose creative, cost-efficient recruitment and selection strategies involving an on-the-ground partner organization in Russia to attract qualified teachers to the program. The recruitment strategy should ensure a pool of highly qualified candidates, while also limiting the number that will not be accepted. Applicants are invited to propose, based on their experience and knowledge, appropriate grant-to-applicant ratios that should be targeted in the recruitment effort. Please include letters of project commitment from the on-the-ground partner and describe in detail relevant previous projects undertaken by the organization or individuals. A sub-grant agreement and an accompanying budget are required. Please include this documentation with your proposal submission.

The cooperating institution, together with the local partner, should collaborate in Russia with the English Language Officer (ELO) on the program for English-speaking teachers. The ELO, based at the U.S. Embassy in Moscow, is a credentialed, experienced Foreign Service and English as a Foreign Language officer who works with the Russian Ministry of Education, universities and teacher-training officials on targeted English language programs. The ELO may participate in reviewing applications, interviewing and nominating candidates, and approving and monitoring follow-up activities.

In all cases, the top candidates' applications will be submitted to the cooperating institution, which should organize external peer review panels to determine the final selection of candidates in collaboration with ECA.

B. Recruitment and Selection of U.S. Teachers

The cooperating institution should invite applications from outstanding U.S. teachers in the fields of English, English as a Foreign Language (EFL), social studies, history, math, science, and information technology. In consultation with the Teacher Exchange Branch (ECA/A/S/X), the cooperating institution should select approximately 8 teachers for participation.

C. U.S. School-Based Internships/Professional Development Institutes

Two competitively selected schools of education at U.S. universities should coordinate the professional development institutes—one for the spring institute in English, history, and social studies, and one for the fall institute in math, science, and information technology. The cooperating institution should administer an open sub-grant competition among U.S. schools of education to host the teachers. The cooperating institution should arrange a three-day orientation program in Washington, DC, for each group of Russian teachers. Then, the teachers will travel to the U.S. host university for the three-to four-week institute. Each program will conclude with a two- or three-day conference and debriefing session at the host university.

For each cohort of participants, the institutes should provide:

(1) Intensive training in teaching methodologies in the Teaching of English as a Foreign Language, social studies, civics, history, or math, science, and technology, especially student-centered and applied or problem-based learning;

(2) Training in the use of technology appropriate for the Russian classroom (all subjects) and in the use of computers for Internet research and word processing;

(3) Consultations with leading U.S. teacher training and curriculum development specialists and practitioners;

(4) Visits to various types of U.S. schools to observe a variety of teaching methods (inquiry, applied/problem-based learning, active classroom, group projects, etc.);

(5) Individual and group work periods for research and curriculum writing activities;

(6) Involvement with Americans at civic and volunteer organizations, at school board meetings, parent-teacher conferences or other community and cultural activities, and through home stays;

(7) The English-speaking group should be provided a school-based internship with U.S. mentor teachers and opportunities to teach or team-teach in a U.S. classroom.

(8) At the end of each institute, the host university should organize a conference/debriefing meeting with the visiting Russian educators and the selected U.S. teachers who will travel to Russia. The conference may include joint presentations, poster sessions or round-table discussions on topics such as technology in the classroom, effective instruction, teacher professional development, school partnerships, and civic education.

D. Russia Visit

The program will provide a two-week visit to Russia for 8 U.S. teachers to foster school linkages and collaboration on joint projects. The visits should feature the sharing of best practices, team-teaching with counterparts abroad, seminars on methodology, and opportunities to learn from regional master teachers about teaching styles, curriculum, and educational issues in Russia. The cooperating institution should work with ECA/A/S/X and international counterparts to identify and arrange host placements in Russia for the U.S. teachers.

E. Professional Development Workshops in Russia

The third component, which will take place after the Russian participants return home, is a series of workshops they will conduct for their non-English-speaking colleagues. Proposals should outline a plan for Russian teachers who have taken part in the program to organize and lead professional development workshops in Russia in summer 2008, with the collaboration and guidance of U.S. education consultants from the host universities. The workshops are designed to reach as many (non-English-speaking, particularly) Russian teachers as possible. While still in the U.S., the teachers should develop curriculum units to be used in their Russian classrooms. During the in-country workshops, the participants in the U.S. program should share their curriculum units with fellow teachers, as well as information they received while on the exchange about student-centered learning, applied and problem-based learning, technology in education, civic education, and new pedagogical methods. The participating teachers and their host university education consultants should develop the workshops in coordination with the cooperating institution, relevant in-country non-governmental organization, the Russian Ministry of Education, the U.S. Embassy in Moscow (including the ELO for workshops in EFL, where appropriate), and the ECA Teacher Exchange Branch.

The Bureau will work with the recipient of this cooperative agreement award on administrative and program issues and questions as they arise over the duration of the award.

F. Follow-On Activities

After the Russian participants return home, follow-on programming will take place. The Russian teachers will be eligible to apply for small grants to purchase essential materials for their schools, to offer follow-on training for other teachers (in addition to the workshops previously described), to open a teacher resource center, and to conduct other activities that will build on the exchange visits. The development and approval of follow-on grants must be coordinated by the cooperating institution with the relevant non-governmental organizations, the U.S. Embassy in Moscow (including the ELO, where appropriate), and the Teacher Exchange Branch. Cooperating institutions' proposals should allot a total of $40,000 to fund a total of 10 or 12 small grants.

Program Planning and Implementation

Applicants are requested to submit a narrative outlining a comprehensive strategy for the administration and implementation of the U.S.-Russia Language, Technology, Math, and Sciences (LTMS) Teacher Program. The narrative should include a proposed design for the institutes, a strategy for selecting university hosts and for cooperating with them through subgrants, a plan for recruiting, selecting, and placing Russian teachers at the U.S. institutes, a plan for monitoring the teachers' academic and professional programs, an idea for the end-of-program debriefing/conference for Russian and U.S. teachers, a design for the Russia visits by U.S. teachers, and a proposal for follow-on support.

The comprehensive program strategy should reflect a vision for the program as a whole, interpreting the goals of the U.S.-Russia LTMS Teacher Program with creativity and providing innovative ideas for the program. The strategy should include a description of how the various components of the program will be integrated to build upon and reinforce one another. Pending availability of funds, this grant should begin on September 1, 2006, and will run through June 30, 2008.

In a cooperative agreement, ECA's Teacher Exchange Branch will be substantially involved in program activities above and beyond routine grant monitoring. ECA/A/S/X activities and responsibilities for this program are as follows:

• Formulation of program policy;

• Clearing texts and program guidelines for publication;

• Approval of recruitment mechanisms and the selection of Russian and U.S. teachers;

• Review and approval of solicitation materials for sub-grant competition of university hosts;

• Review and approval of the university-based program schedules and enhancement activities for Russian teachers, the Washington, DC, orientation and the end-of-program debriefing schedules; and

• Approval of schedules for in-country workshops and follow-on awards.

II. Award Information

Type of Award: Cooperative Agreement. ECA's level of involvement in this program is listed under number I above.

Fiscal Year Funds: 2006.

Approximate Total Funding: $700,000.

Approximate Number of Awards: 1.

Approximate Average Award: Pending availability of funds, $700,000.

Anticipated Award Date: Pending availability of funds, September 1, 2006.

Anticipated Project Completion Date: June 30, 2008.

Additional Information: Pending successful implementation of this program and the availability of funds in subsequent fiscal years, it is ECA's intent to renew this grant for two additional fiscal years before openly competing it again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, applicants must maintain written records to support all costs, which are claimed as their contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3 Other Eligibility Requirements: Bureau grant guidelines require that organizations with less than four years experience in conducting international exchanges be limited to $60,000 in Bureau funding. ECA anticipates issuing one award in an amount up to $700,000 to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1. Contact Information to Request an Application Package:Please contact Patricia Mosley of the Teacher Exchange Branch, ECA/A/S/X, Room 349, U.S. Department of State, SA-44, 301 4th Street, SW., Washington, DC 20547, telephone: (202)453-8897, fax (202)453-8890, e-mail: MosleyPJ@state.gov to request a Solicitation Package. Please refer to the Funding Opportunity Number ECA/A/S/X-06-13 when making your request.

Alternatively, an electronic application may be obtained from grants.gov. Please see section IV.3f. for further information.

The Solicitation Package contains the Proposal Submission Instruction (PSI) document which consists of required application forms, and standard guidelines for proposal preparation.

It also contains the Project Objectives, Goals and Implementation (POGI) document, which provides specific information, award criteria and budget instructions tailored to this competition.

IV.2. To Download a Solicitation Package Via Internet:The entire Solicitation Package may be downloaded from the Bureau's Web site at http://exchanges.state.gov/education/rfgps/menu.htm or from the Grants office Web site at http://www.grants.gov. Please read all information before downloading.

IV.3. Content and Form of Submission: Applicants must follow all instructions in the Solicitation Package. The original and seven copies of the application should be sent per the instructions under IV.3f. “Application Deadline and Methods of Submission section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa:The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

An employee of the Bureau will be named the Responsible Officer for the program; employees of the cooperating institution will be named Alternate Responsible Officers and will be responsible for issuing DS-2019 forms to participants and performing all actions to comply with the Student and Exchange Visitor Information System (SEVIS). A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. FAX: (202) 453-8640.

Please refer to Solicitation Package for further information.

IV.3.d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3.d.3. Program Monitoring and Evaluation: Proposals must include a plan to monitor and evaluate the project's success, both as the activities unfold and at the end of the program. The Bureau recommends that your proposal include a draft survey questionnaire or other technique plus a description of a methodology to use to link outcomes to original project objectives. The Bureau expects that the cooperating institution will track participants and partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, how and when you intend to measure these outcomes (performance indicators), and how these outcomes relate to the above goals. The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions of teachers to apply knowledge in home schools and community; interpretation and explanation of experiences and new knowledge gained to school administrators and other colleagues; continued contacts between participants and others.

4. Institutional changes influencing policy improvement, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

ECA/A/S/X and the Bureau's Office of Policy and Evaluation will work with the recipient of this cooperative agreement to develop appropriate evaluation goals and performance indicators.

The cooperating institution will be required to provide reports analyzing their evaluation findings to the Bureau in their regular program reports. All data collected, including survey responses and contact information, must be maintained for a minimum of three years and provided to the Bureau upon request.

IV.3.d.4. Describe your plans for staffing: Please provide a staffing plan which outlines the responsibilities of each staff person and explains which staff member will be accountable for each program responsibility. Wherever possible please streamline administrative processes.

IV.3e. Please take the following information into consideration when preparing your budget:

IV.3.e.1. HJ Applicants must submit a comprehensive budget for the program. The budget should not exceed $700,000 for program and administrative costs. There must be a summary budget as well as breakdowns reflecting both administrative and program budgets for host campus and foreign teacher involvement in the program. Applicants should provide separate sub-budgets for the professional institutes/internships, Russia visits by U.S. teachers, and the in-country workshop components in Russia.

The summary and detailed administrative and program budgets should be accompanied by a narrative which provides a brief rationale for each line item including a methodology for estimating appropriate average maintenance allowance levels and tuition costs (as applicable) for the participants, and the number that can be accommodated at the levels proposed. The total administrative costs funded by the Bureau must be reasonable and appropriate.

IV.3.e.2. Allowable costs for the program and additional budget guidance are outlined in detail in the POGI document.

Please refer to the Solicitation Package for complete budget guidelines and formatting instructions.

IV.3f. Application Deadline and Methods of Submission:

Application Deadline Date: Monday, June 5, 2006.

Reference Number: ECA/A/S/X-06-13.

Methods of Submission: Applications may be submitted in one of two ways:

(1) In hard copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1 Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and seven copies of the application should be sent to: U.S. Department of State, SA-44, Bureau of Educational and Cultural Affairs, Ref.: ECA/A/S/X-06-13, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to the appropriate Public Affairs section at the U.S. embassy for its review.

IV.3f.2. Submitting Electronic Applications: Applicants have the option of submitting proposals electronically through Grants.gov (http://www.grants.gov). Complete solicitation packages are available at Grants.gov in the “Find” portion of the system. Please follow the instructions available in the “Get Started” portion of the site (http://www.grants.gov/GetStarted).

Applicants have until midnight (12 a.m.) of the closing date to ensure that their entire applications have been uploaded to the grants.gov site. Applications uploaded to the site after midnight of the application deadline date will be automatically rejected by the grants.gov system, and will be technically ineligible.

Applicants will receive a confirmation e-mail from grants.gov upon the successful submission of an application. ECA will not notify you upon receipt of electronic applications.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Program Development and Management: The proposal narrative should exhibit originality, substance, precision, and relevance to the Bureau's mission as well as the objectives of the U.S.-Russia Language, Technology, Math, and Sciences (LTMS) Teacher Program. It should include an effective, feasible program plan for U.S.-based institutes and in-country workshops in Russia and demonstrate how the distribution of administrative resources will ensure adequate attention to program administration, including host institution selection.

2. Multiplier effect/impact: The proposed administrative strategy should maximize the program's potential to build on the participants' training upon their return to their countries.

3. Support of Diversity: Proposals should demonstrate substantive support of the Bureau's policy on diversity. Achievable and relevant features should be cited in both program administration (selection of participants, host institutions chosen through sub-grants, and program evaluation) and program content, resource materials and follow-up activities.

4. Institutional Capacity and Record: Proposals should demonstrate an institutional record of successful exchange programs, including responsible fiscal management and full compliance with all reporting requirements for past Bureau grants as determined by Bureau Grants Staff. Proposed personnel and institutional resources should be adequate and appropriate to achieve the program's goals.

5. Follow-on and Alumni Activities: Proposals should provide a plan for continued follow-on activity (both with and without Bureau support) ensuring that the U.S.-Russia LTMS Teacher Program training is not an isolated event. Activities should include administering a small grants competition for alumni, and tracking and maintaining updated lists of all alumni and facilitating follow-up activities.

6. Project Evaluation: Proposals should include a plan and methodology to evaluate the U.S.-Russia Language, Technology, Math, and Sciences (LTMS) Teacher Program's degree of success in meeting program objectives, both as the activities unfold, at the end of the first program iteration, and at their conclusion. Draft survey questionnaires or other techniques plus description of methodologies to use to link outcomes to original project objectives are recommended. Successful applicants will be expected to submit intermediate reports after each project component is concluded, or quarterly, whichever is less frequent.

7. Cost-effectiveness and Cost Sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://exchanges.state.gov/education/grantsdiv/terms.htm#articleI.

VI.3. Reporting Requirements: You must provide ECA with a hard copy original plus one copy of the following reports:

Quarterly financial reports; Annual program reports for the first and second year of the agreement; and final program and financial reports no more than 90 days after the expiration of the award.

The cooperating institution will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Michael Kuban, Office of Global Educational Programs, ECA/A/S/X, Room 349, U.S. Department of State, SA-44, 301 4th Street, SW., Washington, DC 20547, telephone: 202-453-8878, fax 202-453-8890, KubanMM@state.gov.

All correspondence with the Bureau concerning this RFGP should reference the title and number ECA/A/S/X-06-13.

Please read the complete Federal Register announcement before sending inquiries or submitting proposals. Once the RFGP deadline has passed, Bureau staff may not discuss this competition with applicants until the proposal review process has been completed.

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 21, 2006.
C. Miller Crouch,
Principal Deputy Assistant Secretary, Bureau of Educational and Cultural Affairs, Department of State.

[FR Doc. 06-4122 Filed 5-1-06; 8:45 am]

BILLING CODE 4710-05-P